DEPARTMENT OF JUSTICE

Notice of Lodging of Consent Decree Under the Clean Air Act

Under 28 CFR 50.7, notice is hereby given that on July 22, 2004, a proposed consent decree (“consent decree”) in United States v. Weyerhaeuser Company, Civil Action No. 04-211 Erie, was lodged with the United States District Court for the Western District of Pennsylvania. This consent decree resolves claims against Weyerhaeuser Company for violations of the Clean Air Act.

In this action the United States sought penalties and injunctive relief for: Failure to obtain a prevention of significant deterioration permit for two power boilers, as required by the Pennsylvania State Implementation Plan; failure to obtain an operating permit including best available control technology (BACT), as required by the state implementation plan; and failure to comply with federal new source performance standards.

Under the terms of the consent decree, Weyerhaeuser agrees to install wet gas scrubbers to control sulfur dioxide emissions, to operate them in accordance with the terms in the consent decree and to pay a civil penalty of $900,000 ($675,000 to the United States and $225,000 to Pennsylvania).

The Department of Justice will receive for a period of thirty (30) days from the date of this publication comments relating to the consent decree. Comments should be addressed to the Assistant Attorney General, Environment and Natural Resources Division, P.O. Box 7611, U.S. Department of Justice, Washington, D.C. 20044-7611, and should refer to United States v. Weyerhaeuser Company, Civil Action No. 04-211 Erie, D.J. Ref. 90-5-2-1-2186/1.

The consent decree may be examined at the Office of the United States Attorney, 700 Grant Street, Suite 400 Pittsburgh, PA 15219, and at U.S. EPA Region III, 1650 Arch Street, Philadelphia, Pennsylvania 19103-2029. A copy of the consent decree may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the consent decree, please enclose a check in the amount of $7.00 (25 cents per page reproduction cost) payable to the U.S. Treasury.

Robert Brook,
Assistant Section Chief, Environmental Enforcement Section, Environment and Natural Resources Division.

[FR Doc. 04-17834 Filed 8-4-04; 8:45 am]

BILLING CODE 4410-15-M